DEPARTMENT OF COMMERCE

National Oceanic and Atmospheric Administration

Agency Information Collection Activities; Submission to the Office of Management and Budget (OMB) for Review and Approval; Comment Request; NMFS Alaska Region Vessel Monitoring System (VMS) Program

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before August 24, 2020.

ADDRESSES: Interested persons are invited to submit written comments to Adrienne Thomas, NOAA PRA Officer, at Adrienne.thomas@noaa.gov. Please reference OMB Control Number 0648-0445 in the subject line of your comments. Do not submit Confidential Business Information or otherwise sensitive or protected information.

FOR FURTHER INFORMATION CONTACT: Requests for additional information or specific questions related to collection activities should be directed to Gabrielle Aberle, 907-586-7228.

SUPPLEMENTARY INFORMATION:

I. Abstract

The National Marine Fisheries Services (NMFS), Alaska Regional Office, is requesting extension of a currently approved information collection for the NMFS Alaska Region Vessel Monitoring System (VMS) Program. There are no proposed changes to this information collection.

NMFS requires the owners and operators of selected vessels participating in federally managed groundfish and crab fisheries off Alaska to obtain, install, and maintain an operational, NMFS-approved Vessel Monitoring System (VMS). VMS units automatically transmit the location of a vessel several times per hour using a Global Positioning System satellite. The VMS unit is passive and automatic, requiring no reporting effort by the vessel operator. A communications service provider receives the transmission and relays it to NMFS Office for Law Enforcement (OLE).

Tracking vessel location using VMS is required to monitor compliance with area-specific catch allocations, to monitor compliance with requirements to redeploy or remove fishing gear from commercial fishing grounds, and to monitor compliance with complicated time and area closures in the Gulf of Alaska (GOA) and Bering Sea and Aleutian Islands (BSAI) designed to protect Steller sea lion or essential fish habitat. The VMS requirements are found at 50 CFR parts 679 and 680.

VMS is an essential component of monitoring and management for complicated, geographically widespread fishing closures. Given the large size and remoteness of the area in which Alaska fisheries occur, and the limited enforcement infrastructure available, determining a vessel's location depends crucially on VMS reports. When a VMS track is examined, information can be inferred about whether a vessel is actively fishing, the type of gear being used, and the fisheries that are open. NMFS uses information from VMS to identify where vessels are operating, to organize patrols so as to increase the number of fishing vessels visually examined, or to focus examination of vessels of greatest concern, and as evidence in prosecutions.

II. Method of Collection

Automatic GPS position reporting starts after VMS transceiver installation and power activation on board the vessel. The unit is pre-configured and tested for NMFS VMS operations. The VMS unit is passive and automatic, requiring no reporting effort by the vessel operator.

III. Data

OMB Control Number: 0648-0445.

Form Number(s): None.

Type of Review: Regular submission (extension of a current information collection).

Affected Public: Individuals or households; Business or other for-profit organizations.

Estimated Number of Respondents: 550.

Estimated Time per Response: VMS installation, maintenance, and troubleshooting, 12 hours.

Estimated Total Annual Burden Hours: 2,476 hours.

Estimated Total Annual Cost to Public: $812,668.

Respondent's Obligation: Required to Obtain or Retain Benefits.

Legal Authority: 16 U.S.C.1801 et. seq.; 16 U.S.C. 773-773k.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-13527 Filed 6-23-20; 8:45 am]

BILLING CODE 3510-22-P